SECURITIES AND EXCHANGE COMMISSION

Sunshine Act Meetings

FEDERAL REGISTER CITATION OF PREVIOUS ANNOUNCEMENT: To be published.

PREVIOUSLY ANNOUNCED TIME AND DATE OF THE MEETING: Thursday, June 28, 2018.

CHANGES IN THE MEETING: The following matter will also be considered during the 2 p.m. Closed Meeting scheduled for Thursday, June 28, 2018:

Report on an investigation.

CONTACT PERSON FOR MORE INFORMATION: For further information and to ascertain what, if any, matters have been added, deleted or postponed, please contact the Office of the Secretary at (202) 551-5400.

Dated: June 22, 2018.
Jill M. Peterson,
Assistant Secretary.

[FR Doc. 2018-13888 Filed 6-25-18; 11:15 am]

BILLING CODE 8011-01-P